DEPARTMENT OF STATE

[Public Notice 7366]

Bureau of Educational and Cultural Affairs (ECA) Request for Grant Proposals: Professional Exchanges Congress

Announcement Type: New Grant.

Funding Opportunity Number: ECA/PE/C-11-21.

Catalog of Federal Domestic Assistance Number: 19.415.

Key Dates: Spring and Fall 2012.

Application Deadline: May 19, 2011

Executive Summary: The Office of Citizen Exchanges of the Bureau of Educational and Cultural Affairs invites proposal submissions to conduct the 2012 spring and fall End-of-Program “Professional Exchanges Congresses” for individuals from Africa, East Asia and the Pacific, Europe, the Middle East and North Africa, South and Central Asia and the Western Hemisphere participating in the Legislative Fellows Program, the Women's Empowerment Program, and the Young Entrepreneurs Program. Public and private non-profit organizations meeting the provisions described in Internal Revenue Code section 26 USC 501(c)(3) may submit proposals to conduct two three-day Professional Exchanges Congresses in spring and fall 2012. These professional exchange programs support and encourage young government and civil society leaders, roughly ages 25-38, from eligible countries to gain knowledge of U.S. practices and techniques in their field of expertise, explore governance principles and practices in both public and civil society institutions in the United States, and gain a deeper understanding of U.S. society, culture, and people. These professional exchange programs are also designed to provide U.S. participants the opportunity to share their professional expertise with counterparts in eligible countries and gain a deeper understanding of the societies, cultures, and professional arena of their foreign colleagues.

I. Funding Opportunity Description

I.1. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose

ECA anticipates funding one grant of approximately $576,000 for the development, management, and implementation of two (2) Professional Exchanges Congresses that will occur at the end of both the spring and fall fellowship components for the 2012 Legislative Fellows Program, Women's Empowerment Program, and Young Entrepreneurs Program.

These professional exchange programs are two-way exchanges involving current or potential government and civil society leaders from both the U.S. and foreign countries who will effect positive change in their workplace and communities and develop long-term engagement between their home organizations and foreign counterparts. In addition to the professional focus of the program, foreign participants will be provided opportunities to explore governance as practiced in the United States, and in particular the interface between government and civil society.

Additional information about these professional exchange programs can be located on the Federal Registry under Bureau of Educational and Cultural Affairs (ECA) Request for Grant Proposals: Open Competition for the Professional Exchange Programs, Funding Opportunity Number: ECA/PE/C-11-01.

The three-day Professional Exchanges Congresses should build upon the thematic focus of the Legislative Fellows Program, the Women's Empowerment Program, and the Young Entrepreneurs Program; work to reinforce programmatic goals; allow for engaged interaction between individuals from different countries; highlight key learning objectives; outline plans for follow-on projects; and help the professional exchange participants translate and utilize their U.S. experiences in their home communities. Special attention should be paid to integrating these three professional exchange programs, and concepts such as citizen empowerment, grassroots advocacy, volunteerism, community action, and leadership into the Congress design, content, and programmatic activities.

As the capstone events of the 2012 spring and fall professional exchange experience, each Professional Exchanges Congress is designed to provide participating fellows:

• a contextual framework for understanding the “fellowship experience” and the interplay of government, governance, and civil society;

• the opportunity to network with colleagues from participating countries;

• a deeper understanding of the ways an individual, organization, or interest group can generate change for the common good;

• concrete tools to support the role of the individual as a cultural ambassador; and,

• an enhanced appreciation of the importance of public diplomacy in the global community.

A description of the Legislative Fellows Program, the Women's Empowerment Program, and the Young Entrepreneurs Program are provided in Section I.8 below. Additional information about these specific professional exchange programs can be found in a separate RFGP published in the Federal Register, and available at www.grants.gov, as well as on the ECA Web site at http://exchanges.state.gov/grants/open2.html (ECA/PE/C-11-01). Potential applicants may wish to review the RFGP for these professional exchange programs before developing a proposal for the Congresses.

I.3. Participants

For the purposes of the Professional Exchanges Congress, “participants” are defined as citizens of the eligible countries selected through a merit-based competition to travel to the United States to take part in one of the three spring or fall professional exchange programs. Participants will be young up-and-coming and mid-level government and civil society professionals with experience and current employment related to one of the designated areas. Because of the nature of this program, all selected participants will be highly proficient in written and oral English, self-directed, able to work effectively in a cross-cultural setting, and have demonstrated leadership abilities.

I.4. Project Activities

Projects should including planning, development, and implementation of two three-day long Professional Exchanges Congress in spring and fall 2012. Each Congress will include approximately 200-250 participants in addition to staff from approximately 12-18 participating organizations. Strong project designs will ground and augment the fellowship experience with leadership development activities that relate to civic engagement. Proposals should clearly outline the goals and objectives of the Professional Exchanges Congress, describe possible symposium themes and topics, suggest speakers, and include innovative informal networking events that allow ample time for interaction among the program participants. Special attention should be paid to highlighting the program using social media and other outreach methods. Proposals should also include a detailed draft agenda. Projects should provide opportunities for the exchange participants to begin the transition from program participant to alumni and discuss how to translate and utilize their U.S. experiences in their home communities.

I.5. Projected Timeline

ECA envisions the approximate dates of the Professional Exchanges Congress to be as follows:

September 2011-January 2012:

• Develop and implement communication plan and system.

• Identify and negotiate contract with appropriate hotel or meeting site for both spring and fall Congresses. Contracts should include provisions for meals and lodging for participating fellows and staff from grantee organizations, as well as space for plenary meetings, informal networking activities, break-out sessions, etc.

February 2012-April 2012:

In coordination with ECA/PE/C staff and participating grantee organizations,

• develop spring Congress agenda and all corresponding materials.

• arrange all hotel, meals, and travel logistics.

• disseminate arrival and hotel information to participating fellows along with the agenda for the Congress and materials.

• develop and implement a public media outreach campaign to interested stakeholders and the wider community. Special provisions should be made for internal outreach within the Department of State.

May 2-4, 2012: Conduct Three-Day Spring Professional Exchanges Congress.

June 2012: Prepare Final Congress Report. Meet with ECA/PE/C staff for an official programmatic debrief.

June 2012-October 2012:

In coordination with ECA/PE/C staff and participating grantee organizations,

• develop fall Congress agenda and all corresponding materials.

• arrange all hotel, meals, and travel logistics.

• disseminate arrival and hotel information to participating fellows along with the agenda for the Congress and materials.

• implement a public media outreach campaign to interested stakeholders and the wider community. Special provisions should be made for internal outreach within the Department of State.

November 7-9, 2012: Conduct Three-Day Fall Professional Exchanges Congress.

December 2012: Prepare Final Congress Report. Meet with ECA/PE/C staff for an official programmatic debrief.

I.6. Professional Exchange Programs

Programs and Eligible Partner Countries: Congress proposals need to embrace a global program design that incorporates the professional exchange programs outlined in announcement ECA/PE/C-11-01:

Legislative Fellows Program

The Legislative Fellows Program will engage professionals who are actively involved in the legislative process and/or policy-making through their work in government, civic education organizations, citizen advocacy groups, political parties, or election monitoring organizations. During their time in the United States, the participants will examine the relationship between civil society and government, and the issue of public corruption and accountability. Participants will observe the role of their U.S. counterparts in various levels of the U.S. government, through placements in Congressional offices (including state/district offices), state legislatures, city councils/local government bodies, advocacy groups or other relevant organizations across the United States, engage in dialogue, and develop plans for projects that support more responsive social and political institutions.

Women's Empowerment

The Women's Empowerment Program will focus on the unique interests of women in issues that affect the broader society, including business, civil society, and journalism. Participants will represent women-owned businesses, non-governmental organizations, healthcare industries, and educational institutions. During their 4-6 week fellowships in the United States, participants will gain firsthand knowledge of how organizations and institutions advocate on behalf of women and their critical role in community advancement, while also participating in site visits and specially-designed seminars.

Young Entrepreneurs

The Young Entrepreneurs Program will engage small business owners, business professionals and business educators, to observe best practices in business, engage in dialogue with their peers in the U.S., and complete individually tailored fellowships in appropriate organizations. Participants will increase their understanding of the links between entrepreneurial activity and free markets, as well as the importance of transparency and accountability in business and government through the participants' direct involvement in American businesses.

Participants in these professional exchange programs will come from at a minimum 30 countries worldwide. For a full list of the eligible countries under each specific theme, please refer to the RFGP for these professional exchange programs; announcement ECA/PE/C-11-01.

Additional guidelines and programming responsibilities of the recipient organization and ECA are located in the Program Objectives, Goals and Implementation (POGI) document.

II. Award Information

Type of Award: Grant Agreement

Fiscal Year Funds: 2011

Approximate Total Funding: $576,000

Approximate Number of Awards: 1

Approximate Average Award: $576,000

Anticipated Award Date: Pending the availability of funds, September 1, 2011

Anticipated Project Completion Date: December 31, 2012

Additional Information: Pending successful implementation of this program and the availability of funds in subsequent fiscal years, it is ECA's intent to renew this grant for two additional fiscal years before openly competing it again.

III. Eligibility Information

III.1. Eligible Applicants

Applications may be submitted by public and private non-profit organizations meeting the provisions described in Internal Revenue Code section 26 USC 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making one award, in an amount up to $576,000 to support program and administrative costs required to implement this exchange program. Therefore, organizations with less than four years experience in conducting international exchanges are ineligible to apply under this competition. The Bureau encourages applicants to provide maximum levels of cost sharing and funding in support of its programs.

(b.) Technical Eligibility: All proposals must comply with the following, or they will result in your proposal being declared technically ineligible and given no further consideration in the review process.

—Eligible applicants may not submit more than one proposal in this competition.

—If more than one proposal is received from the same applicant, all submissions will be declared technically ineligible and will receive no further consideration in the review process. Please note: Applicant organizations are defined by their legal name, and EIN number as stated on their completed SF-424 and additional supporting documentation outlined in the Proposal Submission Instructions (PSI) document.

—Eligible applicants may only propose working with the professional exchange programs and themes listed in this RFGP.

IV. Application and Submission Information

Note: Please read the complete announcement before sending inquiries or submitting proposals. Once the RFGP deadline has passed, Bureau staff may not discuss this competition with applicants until the proposal review process has been completed.

IV.1 Contact Information To Request an Application Package

Please contact David Gustafson in the Office of Citizen Exchanges, ECA/PE/C, U.S. Department of State, SA-5, 3rd Floor, 2200 C Street, NW., Washington, DC 20037, (202) 632-6083, GustafsonDP@state.gov to request a Solicitation Package. Please refer to the Funding Opportunity Number ECA/PE/C-11-21 located at the top of this announcement when making your request.

Alternatively, an electronic application package may be obtained from grants.gov. Please see section IV.3f for further information.

The Solicitation Package contains the PSI document, which consists of required application forms, and standard guidelines for proposal preparation.

It also contains the POGI document, which provides specific information, award criteria and budget instructions tailored to this competition.

Please specify Linnéa E. Allison and refer to the Funding Opportunity Number ECA/PE/C-11-21 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government.

This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory PSI document and the POGI for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing The J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

For informational purposes only, the Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

Eligible costs include:

(1) Symposium programming for approximately 500 Professional Fellows, participating grantee organizations, and ECA staff

(2) Honoraria for speakers

(3) Lodging and hotel expenses including conference space and audio-visual support

(4) Food including working meals (reception and final banquet)

(5) Enhancement and cultural programming

(6) Ground transportation in the Washington, DC, area for participants, staff, and speakers

(7) Educational Materials

(8) Materials including printing and duplication of promotional pieces, Congress binders, participant bios, name tags, table tents, and other supporting Congress-related items

(9) Staffing

(10) General administrative expenses

Please refer to the Solicitation Package for complete budget guidelines and formatting instructions.

IV.3f. Application Deadline and Methods of Submission:

Application Deadline Date: May 19, 2011.

Reference Number: ECA/PE/C-11-21.

Methods of Submission:

Applications may be submitted in one of two ways:

(1.) In hard-copy, via a nationally recognized overnight delivery service (i.e., Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: Program Management Division, ECA-IIP/EX/PM, Ref. ECA/PE/C-11-21, SA-5, Floor 4, Department of State, 2200 C Street, NW., Washington, DC 20037.

Applicants submitting hard-copy applications must also submit the “Executive Summary” and “Proposal Narrative” sections of the proposal in text (.txt) or Microsoft Word format on CD-ROM. As appropriate, the Bureau will provide these files electronically to Public Affairs Section(s) at the U.S. embassy(ies) for its(their) review.

IV.3f.2. Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support

Contact Center Phone: 800-518-4726.

Business Hours: Monday-Friday, 7 a.m.-9 p.m. Eastern Time.

E-mail: support@grants.gov

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

The submission will be reviewed with the following review criteria in mind:

1. Quality of the program idea: Proposals should exhibit originality, substance, precision, and relevance to the Bureau's mission.

2. Program planning and ability to achieve objectives: Detailed agenda, sample materials, and relevant work plan should demonstrate an institution's or organization's substantive undertakings and logistical capacity. Agenda and plan should adhere to the stated Professional Exchange Programs overview and Congress guidelines described above. Proposals should clearly demonstrate how the institution or organization will meet the Congress goals and objectives.

3. Support of Diversity: Proposals should demonstrate the institution's or organization's commitment to promoting the awareness and understanding of diversity in all aspects of the Congress planning, development and implementation.

4. Institutional Capacity and Track Record: Proposed personnel and institutional resources should be adequate and appropriate to designing, developing, implementing, and managing a spring and fall capstone event for these professional exchange programs. Proposals should demonstrate an institutional record of successful execution of large scale conference, workshop, or symposium type programming and related activities, including responsible fiscal management and full compliance with all reporting requirements for past Bureau awards.

5. Project Evaluation: Proposals should include a plan to evaluate the activity's success, both as the activities unfold and at the end of the program. The Bureau recommends that the proposal include a draft survey questionnaire or other technique plus description of a methodology to use to link outcomes to original project objectives. Award-receiving organizations/institutions will be expected to submit intermediate reports after each project component is concluded or quarterly, whichever is less frequent.

6. Cost-effectiveness: The overhead and administrative components of the proposal, including salaries and honoraria, should be kept as low as possible. All other items should be necessary and appropriate.

VI. Award Administration Information

VI.1a. Award Notices

Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://fa.statebuy.state.gov

VI.3. Reporting Requirements

You must provide ECA with an electronic version and one hard copy of the following reports:

(1.) A final program and financial report no more than 90 days after the expiration of the award;

(2.) A concise, one-page final program report summarizing program outcomes no more than 90 days after the expiration of the award. This one-page report will will be transmitted to OMB, and be made available to the public via OMB's USAspending.gov Web site—as part of ECA's Federal Funding Accountability and Transparency Act (FFATA) reporting requirements.

(3.) A SF-PPR, “Performance Progress Report” Cover Sheet with all program reports.

(4.) Quarterly program and financial reports highlighting all major activities undertaken during the grant period including program analysis and lessons learned.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Linnéa E. Allison, U.S. Department of State, Office of Citizen Exchanges, Professional Exchanges, ECA/PE/C-EAP-ECA-SCA, SA-5, 3rd Floor, ECA/PE/C-11-21, 2200 C Street, NW., Washington, DC 20037, (202) 632-6060, Fax: (202) 632-6492, allisonle@state.gov.

All correspondence with the Bureau concerning this RFGP should reference the above title and number: ECA/PE/C-11-21. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 9, 2011.
Ann Stock,
Assistant Secretary, Bureau of Educational and Cultural Affairs, U.S. Department of State.

[FR Doc. 2011-6279 Filed 3-16-11; 8:45 am]

BILLING CODE 4710-05-P